DEPARTMENT OF TRANSPORTATION

Federal Railroad Administration

[Docket Number FRA-2013-0143]

Petition for Waiver of Compliance

In accordance with Part 211 of Title 49 Code of Federal Regulations (CFR), this document provides the public notice that by a letter dated December 11, 2013, Mr. Ray Kolasa, a private owner of a Penn Central Transfer Caboose, Car Number 18216, petitioned the Federal Railroad Administration (FRA) for a waiver of compliance from certain provisions of the Federal railroad safety regulations contained at 49 CFR Part 215, Railroad Freight Car Safety Standards. FRA assigned the petition Docket Number FRA-2013-0143.

Mr. Kolasa seeks relief for the caboose from 49 CFR 215.303, Stenciling of restricted cars, which requires that restricted railroad freight cars shall be stenciled or marked in clearly legible letters with the letter “R.” The caboose was built in 1948 and is more than 50 years old from its original date of construction, and therefore is restricted per 49 CFR 215.203(a), Restricted cars. Mr. Kolasa states that stenciling of this car would distract from the historical image. Mr. Kolasa also requests Special Approval for continued operation of the same car in accordance with 49 CFR 215.203(c).

Mr. Kolasa further states that this car was converted to carry passengers and will be used for tourist attractions and historical purposes. This car will not be interchanged in regular freight operations. Additionally, Mr. Kolasa states that this car will be serviced, inspected, and maintained in compliance with all applicable regulations with the exception of the conditions that require special approvals.

A copy of the petition, as well as any written communications concerning the petition, is available for review online at www.regulations.gov and in person at the U.S. Department of Transportation's (DOT) Docket Operations Facility, 1200 New Jersey Avenue. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02867 Filed 2-10-14; 8:45 am]

BILLING CODE 4910-06-P